DEPARTMENT OF THE INTERIOR

Bureau of Indian Affairs

[189A2100DD/AAKC001030/A0A501010.999900]

Environmental Impact Statement for the Proposed Fort Mojave Solar Project on the Fort Mojave Indian Reservation, Mohave County, Arizona, and Clark County, Nevada

AGENCY: Bureau of Indian Affairs, Interior.

ACTION: Notice of cancellation.

SUMMARY: This notice announces that the Bureau of Indian Affairs (BIA) intends to cancel all work on the environmental impact statement (EIS) for the proposed Fort Mojave Solar Project, Fort Mojave Indian Reservation, Mohave County, Arizona, and Clark County, Nevada. The notice of intent to prepare the EIS, which included a description of the proposed action, was published in the Federal Register on April 11, 2016.

DATES: This cancellation will take effect October 29, 2018.

FOR FURTHER INFORMATION CONTACT: Mr. Chip Lewis, Regional Environmental Protection Officer, telephone (602) 379-6750.

SUPPLEMENTARY INFORMATION: The BIA is cancelling work on this EIS because the Fort Mojave Tribe and their solar development partner have mutually decided not to pursue development of the solar energy generation facility that was the subject of the EIS. The notice of intent to prepare the EIS, which included a description of the proposed action, was published in the Federal Register on April 11, 2016 (81 FR 21377). Public meetings were held on May 25-26, 2016, at Mohave Valley, Arizona and Laughlin, Nevada respectively. The Draft EIS had not yet been published.

Authority

This notice is published in accordance with section 1503.1 of the Council on Environmental Quality Regulations (40 CFR parts 1500-1508) implementing the procedural requirements of the National Environmental Policy Act of 1969, as amended (42 U.S.C. 4321 et seq.), and the Department of the Interior Manual (516 DM 1-6), and is in the exercise of authority delegated to the Assistant Secretary—Indian Affairs by 209 DM 8.

Dated: September 11, 2018.
Tara Sweeney,
Assistant Secretary—Indian Affairs.

[FR Doc. 2018-20992 Filed 9-26-18; 8:45 am]

BILLING CODE 4337-15-P